POSTAL REGULATORY COMMISSION

39 CFR Part 3055

[Docket No. RM2011-4; Order No. 600]

Periodic Reporting Rules

AGENCY: Postal Regulatory Commission.

ACTION: Notice of rulemaking.

SUMMARY: The Postal Service has filed a request for a semi-permanent waiver of periodic reporting rules concerning service performance for First-Class Mail Flats at the District level or, in the alternative, a rulemaking petition seeking deletion of this reporting requirement. This document addresses the Postal Service's filing and identifies related procedural steps, including a request for public comments.

DATES: Comments are due: December 14, 2010.

ADDRESSES: Submit comments electronically via the Commission's Filing Online system. Commenters who cannot submit filings electronically should contact the person identified in the FOR FURTHER INFORMATION CONTACT section for advice on alternatives.

FOR FURTHER INFORMATION CONTACT: Stephen L. Sharfman, General Counsel, at stephen.sharfman@prc.gov or 202-789-6820.

SUPPLEMENTARY INFORMATION: On November 23, 2010, the Postal Service filed a request for a semi-permanent exception from periodic reporting of service performance measurement for First-Class Mail Flats at the District level pursuant to Commission Order No. 465 and 39 CFR 3055.3(a)(1).¹ Alternatively, the Postal Service petitions the Commission to initiate a rulemaking to remove the requirement to report service performance measurement for First-Class Mail Flats at the District level from the Commission's rules of practice and procedure. See 39 CFR 3055.45(a). Concomitantly, the Postal Service filed a provisional notice of withdrawal from a separate request for a temporary waiver of this reporting requirement.² See Docket No. RM2011-1.

¹ United States Postal Service Request for Semi-Permanent Exception from Periodic Reporting of Service Performance Measurement or, in the Alternative, Petition for Rulemaking Concerning 39 CFR 3055.45(a), November 23, 2010 (Request); see also Docket No. RM2009-11, Order Establishing Final Rules Concerning Periodic Reporting of Service Performance Measurements and Customer Satisfaction, May 25, 2010, at 22 (Order No. 465).

² Docket No. RM2011-1, United States Postal Service Notice of Provisional Partial Withdrawal of Request for Temporary Waiver, November 24, 2010.

Specifically, the Postal Service requests that the Commission grant one of the following extraordinary remedies: (1) Allow a semi-permanent exception for quarterly, district-level reporting of First-Class Mail Flats under 39 CFR 3055.3(a)(1), on the basis of the undue burden that a $4 million measurement cost would impose on the Postal Service's financial position; (2) allow a semi-permanent exception on an extraordinary basis, not under 39 CFR 3055.3(a)(1), for the same reason; or (3) amend 39 CFR 3055.45(a)(1) and (2) to delete the word “District.” Request at 7.

The Commission establishes Docket No. RM2011-4 for consideration of matters related to the proposed semi-permanent exception from periodic reporting of service performance measurement identified in the Postal Service's Request.

Interested persons may submit comments on whether the Postal Service's Request is consistent with the policies of 39 U.S.C. 3652(a)(2) and 39 CFR 3055.3. Comments are due no later than December 14, 2010. The Postal Service's Request can be accessed via the Commission's Web site (http://www.prc.gov).

The Commission appoints Emmett Rand Costich to serve as Public Representative in the captioned proceedings.

It is ordered:

1. The Commission establishes Docket No. RM2011-4 for consideration of matters raised by the Postal Service's Request.

2. Comments by interested persons in these proceedings are due no later than December 14, 2010.

3. Pursuant to 39 U.S.C. 505, Emmett Rand Costich is appointed to serve as the officer of the Commission (Public Representative) to represent the interests of the general public in these proceedings.

4. The Secretary shall arrange for publication of this order in the Federal Register.

By the Commission.
Shoshana M. Grove,
Secretary.

[FR Doc. 2010-30448 Filed 12-3-10; 8:45 am]

BILLING CODE 7710-FW-P